DEPARTMENT OF HEALTH AND HUMAN SERVICES

National Institutes of Health

Proposed Collection; 60-Day Comment Request: Application for the Postdoctoral Research Associate Program

SUMMARY: In compliance with the requirement of Section 3506(c)(2)(A) of the Paperwork Reduction Act of 1995, for opportunity for public comment on proposed data collection projects, the National Institute of General Medical Sciences (NIGMS), the National Institutes of Health (NIH) will publish periodic summaries of proposed projects to be submitted to the Office of Management and Budget (OMB) for review and approval.

Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing or request more information on the proposed project, contact Ms. Tammy Dean-Maxwell, NIGMS, NIH, Natcher Building, Room 3AN.44, 45 Center Drive, MSC 6200, Bethesda, MD 20892-6200, or call non-toll-free number 301-594-2755 or email your request, including your address to: deanmat@mail.nih.gov. Formal requests for additional plans and instruments must be requested in writing.

Comments Due Date: Comments regarding this information collection are best assured of having their full effect if received within 60-days of the date of this publication.

Proposed Collection: Application for the Postdoctoral Research Associate Program, (NIGMS) Extension of a currently approved collection, OMB No. 0925-0378, expiration date September 30, 2013. Form Numbers: NIH 2721-1, NIH 2721-2.

Need and Use of Information Collection: The Postdoctoral Research Associate (PRAT) Program will use the applicant and referee information to award opportunities for training and experience in laboratory or clinical investigation to individuals with an appropriate terminal degree who are seeking training in an NIGMS designated emerging area of science, through appointments as PRAT Fellows at the National Institutes of Health or the Food and Drug Administration. The goal of the program is to develop leaders in designated emerging areas of biomedical research for key positions in academic, industrial, and Federal research laboratories. Frequency of Response: Once a year. Affected Public: Individuals or households; businesses or other for-profit. Type of Respondents: Applicants and referees.

OMB approval is requested for 3 years. There are no costs to respondents other than their time. The total estimated annualized burden hours are 331.

Estimated Annualized Burden Table
Form name | Type of respondent | Number of respondents | Number of responses per respondent | Average burden per response (in hours) | Total annual burden hour
PRAT Primary Application (NIH 2721-1) | Applicants | 25 | 1 | 8 | 200
PRAT Request for Evaluation Form (NIH 2721-2) | Referee | 75 | 1 | 105/60 | 131

Dated: July 17, 2013.
Sally Lee,
Executive Officer, National Institute of General Medical Sciences, National Institutes of Health.

[FR Doc. 2013-17645 Filed 7-22-13; 8:45 am]

BILLING CODE 4140-01-P